DEPARTMENT OF COMMERCE

Foreign-Trade Zones Board

[Order No. 1145]

Expansion of Foreign-Trade Zone 173, Grays Harbor County, WA

Pursuant to its authority under the Foreign-Trade Zones Act of June 18, 1934, as amended (19 U.S.C. 81a-81u), the Foreign-Trade Zones Board (the Board) adopts the following Order:

Whereas, the Port of Grays Harbor (Washington), grantee of Foreign-Trade Zone 173, submitted an application to the Board for authority to expand FTZ 173 to expand existing Site 1 at the Port of Grays Harbor (PGH) and to include two new sites at the PGH Marine Terminal and Industrial Park (Site 6) in Hoquiam, and at the Satsop Development Park (Site 7) in Elma, adjacent to the Aberdeen Customs port of entry area (FTZ Docket 36-2000; filed 7/10/00);

Whereas, notice inviting public comment was given in the Federal Register (65 FR 43736, 7/14/00) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 173 is approved, subject to the Act and the Board's regulations, including Section 400.28.

Signed at Washington, DC, this 15th day of March 2001.
Timothy J. Hauser,
Acting Under Secretary for International Trade, Alternate Chairman, Foreign-Trade Zones Board.

[FR Doc. 01-7558 Filed 3-26-01; 8:45 am]

BILLING CODE 3510-DS-P